DEPARTMENT OF LABOR

Employment and Training Administration

[TA-W-60,879]

Via Information Tools, Inc., Troy, MI; Dismissal of Application for Reconsideration

Pursuant to 29 CFR 90.18(C) an application for administrative reconsideration was filed with the Director of the Division of Trade Adjustment Assistance for workers at Via Information Tools, Inc., Troy, Michigan. The application did not contain new information supporting a conclusion that the determination was erroneous, and also did not provide a justification for reconsideration of the determination that was based on either mistaken facts or a misinterpretation of facts or of the law. Therefore, dismissal of the application was issued.

TA-W-60,879; Via Information Tools, Inc., Troy, Michigan (May 22, 2007).

Signed at Washington, DC this 24th day of May 2007.
Ralph DiBattista,
Director, Division of Trade Adjustment Assistance.

[FR Doc. E7-11026 Filed 6-6-07; 8:45 am]

BILLING CODE 4510-FN-P